DEPARTMENT OF COMMERCE

International Trade Administration

[A-570-887]

Tetrahydrofurfuryl Alcohol From the People's Republic of China: Final Results of the Expedited Sunset Review of the Antidumping Duty Order

AGENCY: Import Administration, International Trade Administration, Department of Commerce.

SUMMARY: On July 1, 2009, the Department of Commerce (“Department”) initiated a sunset review of the antidumping duty order on tetrahydrofurfuryl alcohol (“THFA”) from the People's Republic of China (“PRC”) pursuant to section 751(c) of the Tariff Act of 1930, as amended (“Act”). See Initiation of Five-year (“Sunset”) Review, 74 FR 31412 (July 1, 2009) (“Sunset Initiation”); see also Notice of Antidumping Duty Order: Tetrahydrofurfuryl Alcohol from the People's Republic of China, 69 FR 47911 (August 6, 2004) (“Order”). On July14, 2009, Penn A Kem LLC (formerly, Penn Specialty Chemicals) (“PAK”), the petitioner in the THFA investigation, notified the Department that it intended to participate in the sunset review. The Department did not receive a substantive response from any respondent party. Based on the notice of intent to participate and adequate response filed by the domestic interested party, and the lack of response from any respondent interested party, the Department conducted an expedited sunset review of the Order pursuant to section 751(c)(3)(B) of the Act and 19 CFR 351.218(e)(1)(ii)(C)(2). As a result of this sunset review, the Department finds that revocation of the Order would likely lead to continuation or recurrence of dumping, at the levels indicated in the “Final Results of Sunset Review” section of this notice, infra.

DATES: Effective Date: November 5, 2009

FOR FURTHER INFORMATION CONTACT: Frances Veith; AD/CVD Operations, Import Administration, International Trade Administration, U.S. Department of Commerce, 14th Street and Constitution Avenue, NW., Washington, DC 20230; telephone: 202-482-4295.

SUPPLEMENTARY INFORMATION:

Background

On July 1, 2009, the Department initiated a sunset review of the order on THFA pursuant to section 751(c) of the Act. See Sunset Initiation, 74 FR 31412. On July 14, 2009, the Department received a timely notice of intent to participate in the sunset review from PAK, pursuant to 19 CFR 351.218(d)(1)(i). In accordance with 19 CFR 351.218(d)(1)(ii)(A), PAK claimed interested party status under section 771(9)(C) of the Act as a producer of the domestic like product.

On July 29, 2009, PAK filed a substantive response in the sunset review, within the 30-day deadline as specified in 19 CFR 351.218(d)(3)(i). The Department did not receive a substantive response from any respondent interested party in the sunset review. As a result, pursuant to section 751(c)(3)(B) of the Act and 19 CFR 351.218(e)(1)(ii)(C)(2), the Department conducted an expedited sunset review of the Order.

Scope of the Order

The product covered by this order is tetrahydrofurfuryl alcohol (C5H10O2) (“THFA”). THFA, a primary alcohol, is a clear, water white to pale yellow liquid. THFA is a member of the heterocyclic compounds known as furans and is miscible with water and soluble in many common organic solvents. THFA is currently classifiable in the Harmonized Tariff Schedules of the United States (“HTSUS”) under subheading 2932.13.00.00. Although the HTS subheadings are provided for convenience and for customs purposes, the Department's written description of the merchandise subject to the order is dispositive.

Analysis of Comments Received

A complete discussion of all issues raised in this sunset review is addressed in the accompanying Issues and Decision Memorandum, which is hereby adopted by this notice. See the Department's memorandum entitled, “Issues and Decision Memorandum for the Final Results in the Expedited Sunset Review of the Antidumping Duty Order on Tetrahydrofurfuryl Alcohol from the People's Republic of China,” dated October 29, 2009 (“I&D Memo”). The issues discussed in the accompanying I&D Memo include the likelihood of continuation or recurrence of dumping and the magnitude of the dumping margin likely to prevail if the Order was revoked. Parties can obtain a public copy of the I&D Memo on file in the Central Records Unit, room 1117, of the main Commerce building. In addition, a complete public copy of the I&D Memo can be accessed directly on the Web at http://ia.ita.doc.gov/frn. The paper copy and electronic version of the I&D Memo are identical in content.

Final Results of Sunset Review

The Department determines that revocation of the Order on THFA would likely lead to continuation or recurrence of dumping. The Department also determines that the dumping margins likely to prevail if the order was revoked are as follows:

Manufacturers/Exporters/ Producers | Weighted- Average margin (Percent)
Qingdao Wenken (F.T.Z.) Trading Co., Ltd | 136.86
PRC-Wide Entity | 136.86

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: October 29, 2009.
John M. Andersen,
Acting Deputy Assistant Secretary for Antidumping and Countervailing Duty Operations.

[FR Doc. E9-26702 Filed 11-4-09; 8:45 am]

BILLING CODE 3510-DS-P